DEPARTMENT OF DEFENSE

Office of the Secretary

[Docket ID DoD-2013-OS-0041]

Privacy Act of 1974; System of Records

AGENCY: Defense Information Systems Agency, DoD.

ACTION: Notice to delete nineteen systems of records notices.

SUMMARY: The Defense Information Systems Agency is deleting nineteen systems of records notices in its existing inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins, 6916 Cooper Avenue, Fort Meade, MD 20755-7901, or (301) 225-8158.

SUPPLEMENTARY INFORMATION: The Defense Information Systems Agency systems of records notices subject to the Privacy Act of 1974 (5 U.S.C. 552a), as amended, have been published in the Federal Register and are available from the address in FOR FURTHER INFORMATION CONTACT. The proposed deletions are not within the purview of subsection (r) of the Privacy Act of 1974, (5 U.S.C. 552a), as amended, which requires the submission of a new or altered system report.

Dated: February 28, 2013.
Aaron Siegel,
Alternate OSD Federal Register Liaison Officer, Department of Defense.

Deletions:

K107.01, Investigation of Complaint of Discrimination (February 22, 1993, 58 FR 10562).

KMIN.01, Minority Identification File List (February 22, 1993, 58 FR 10562).

Reason: Based on a recent review of the systems of records notices (SORNs) K107.01, Investigation of Complaint of Discrimination (February 22, 1993, 58 FR 10562) and KMIN.01, Minority Identification File List (February 22, 1993, 58 FR 10562), are covered by the Government wide system of records notice EEOC/GOVT-1, Equal Employment Opportunity in the Federal Government Complaint and Appeal Records (July 30, 2002, 67 FR 49338). Therefore, these notices can be deleted. Government-wide notices can be found at http://dpclo.defense.gov/privacy/SORNs/govt/Gov_Wide_Notices.html.

K700.02, Civilian Award Program File (February 22, 1993, 58 FR 10562).

K700.17 603-01, Official Personnel Folder Files (Standard Form 66) (August 9, 1993, 58 FR 42302).

K700.09 603-02, Services Record Card Files (February 22, 1993, 58 FR 10562).

K700.07, Employee Record File (February 22, 1993, 58 FR 10562).

K890.05, Overseas Rotation Program Files (February 22, 1993, 58 FR 10562).

Reason: Based on a recent review of the systems of records notices K700.02, Civilian Award Program File (February 22, 1993, 58 FR 10562); K700.17 603-01, Official Personnel Folder Files (Standard Form 66) (August 9, 1993, 58 FR 42302); K700.09 603-02, Services Record Card Files (February 22, 1993, 58 FR 10562); K700.07, Employee Record File (February 22, 1993, 58 FR 10562) and K890.05, Overseas Rotation Program Files (February 22, 1993, 58 FR 10562) are covered by Government wide system of records notice OPM Govt-1, General Personnel Records (December 11, 2012, 77 FR 79694) and therefore can be deleted. Government-wide notices can be found at http://dpclo.defense.gov/privacy/SORNs/govt/Gov_Wide_Notices.html.

K700.13 602-26, Retention Register Files (February 22, 1993, 58 FR 10562).

K700.035 602-11, Active Application Files (Applicant Supply Files) (February 22, 1993, 58 FR 10562).

K700.11 602-18, Promotion Register and Record Files (February 22, 1993, 58 FR 10562).

K700.04, Priority Reassignment Eligible File (February 22, 1993, 58 FR 10562).

K700.12 602-10, Civil Service Certificate Files (February 22, 1993, 58 FR 10562).

Reason: Based on a recent review of the systems of records notices K700.13 602-26, Retention Register Files (February 22, 1993, 58 FR 10562); K700.035 602-11, Active Application Files (Applicant Supply Files) (February 22, 1993, 58 FR 10562); K700.11 602-18, Promotion Register and Record Files (February 22, 1993, 58 FR 10562); K700.04, Priority Reassignment Eligible File (February 22, 1993, 58 FR 10562); and K700.12 602-10, Civil Service Certificate Files (February 22, 1993, 58 FR 10562) it was found they are covered by the Government wide system of records notice OPM Govt-5, Recruiting, Examining, and Placement Records (June 19, 2006, 71 FR 35351) and therefore can be deleted. Government-wide notices can be found at http://dpclo.defense.gov/privacy/SORNs/govt/Gov_Wide_Notices.html.

K700.16, Classification Appeals File (February 22, 1993, 58 FR 10562).

K700.10 603-08, Annual Classification Maintenance Review File (February 22, 1993, 58 FR 10562).

Reasons: Based on a recent review of the systems of records notices K700.16, Classification Appeals File (February 22, 1993, 58 FR 10562); and K700.10 603-08, Annual Classification Maintenance Review File (February 22, 1993, 58 FR 10562), it was found that they are covered by OPM Govt-9, File on Position Classification Appeals, Job Grading Appeals, and Retained Grade or Pay Appeals, and Fair Labor Standard Act (FLSA) Claims and Complaints (June 19, 2006, 71 FR 35358), and can therefore be deleted. Government-wide notices can be found at http://dpclo.defense.gov/privacy/SORNs/govt/Gov_Wide_Notices.html.

KPAC.02, Authorization to Sign for Classified Material List (February 22, 1993, 58 FR 10562).

Reason: The SORN KPAC.2, Authorization to Sign for Classified Material List is covered by K890.13, Security Container Information (September 22, 2010, 75 FR 57740). All files were destroyed after expiration of the retention period and all active files were transferred. Therefore KPAC.2, Authorization to Sign for Classified Material List can be deleted.

K700.05, Executive Level Position Files (February 22, 1993, 58 FR 10562).

Reason: The SORN K700.05, Executive Level Position Files is covered by OPM Govt-2, Employee Performance File System Records (June 19, 2006, 71 FR 35347). All files were destroyed after expiration of the retention period and all active files were transferred. Therefore K700.05, Executive Level Position Files can be deleted. Government-wide notices can be found at http://dpclo.defense.gov/privacy/SORNs/govt/Gov_Wide_Notices.html.

K240.03, Clearance File for Defense Information Systems Agency (DISA) Personnel (February 22, 1993, 58 FR 10562).

Reasons: The SORN K240.03, Clearance File for Defense Information Systems Agency (DISA) is now covered by DMDC 12 DoD, Joint Personnel Adjudication System (JPAS) (May 3, 2011, 76 FR 24863). All closed case files were destroyed after expiration of the retention period and all active case files were transferred and therefore K240.03 can be deleted.

KEUR.10, Personnel File (February 22, 1993, 58 FR 10562).

Reason: The SORN KEUR.10, Personnel File is covered by OPM Govt-1, General Personnel Records (December 11, 2012, 77 FR 79694). All files were destroyed or transferred after expiration of the retention period. Therefore KEUR.10, Personnel Files can be deleted. Government-wide notices can be found at http://dpclo.defense.gov/privacy/SORNs/govt/Gov_Wide_Notices.html.

K700.06, Report of Defense Related Employment (February 22, 1993, 58 FR 10562).

Reason: The SORN K700.06, Report of Defense Related Employment is covered by OPM Govt-3, Records of Adverse Actions, Performance Based Reduction in Grade and Removal Actions, and Termination of Probationers (June 19, 2006, 71 FR 35350), the DD Form 1787 (Report of DoD and Defense Related Employment As Required by 10 U.S.C. 2397) has been cancelled, so therefore the notice can be deleted. Government-wide notices can be found at http://dpclo.defense.gov/privacy/SORNs/govt/Gov_Wide_Notices.html.

[FR Doc. 2013-05039 Filed 3-4-13; 8:45 am]

BILLING CODE 5001-06-P